DEPARTMENT OF HEALTH AND HUMAN SERVICES

National Institutes of Health

Center for Scientific Review; Notice of Closed Meetings

Pursuant to section 1009 of the Federal Advisory Committee Act, as amended, notice is hereby given of the following meetings.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: Center for Scientific Review Special Emphasis Panel PAR Panel: Research Education and Training Programs (R25) Review.

Date: July 30, 2025.

Time: 10:00 a.m. to 8:00 p.m.

Agenda: To review and evaluate grant applications.

Address: National Institutes of Health, Rockledge II, 6701 Rockledge Drive, Bethesda, MD 20892.

Meeting Format: Virtual Meeting.

Contact Person: Mir Ahamed Hossain, Ph.D., Scientific Review Officer, Scientific Review Branch, NINDS/NIH/DHHS, Neuroscience Center, 6001 Executive Blvd., Suite 3208, MSC 9529, Bethesda, MD 20892-9529, 301-496-9223, mirahamed.hossain@nih.gov.

Name of Committee: Center for Scientific Review Special Emphasis Panel; Cancer Research.

Date: July 31, 2025.

Time: 10:00 a.m. to 6:00 p.m.

Agenda: To review and evaluate grant applications.

Address: National Institutes of Health, Rockledge II, 6701 Rockledge Drive, Bethesda, MD 20892.

Meeting Format: Virtual Meeting.

Contact Person: Gianina Ramona Dumitrescu, Ph.D., MPH, Scientific Review Officer, SRB, National Institute on Aging, National Institutes of Health, 5601 Fishers Lane, Suite 8B, Rockville, MD 20892, (301) 827-0696, ramona.dumitrescu@nih.gov.

Name of Committee: Center for Scientific Review Special Emphasis Panel Member Conflict: Topics in Immunity, Transmission and Dynamics of Infectious Diseases.

Date: August 5, 2025.

Time: 10:00 a.m. to 4:00 p.m.

Agenda: To review and evaluate grant applications.

Address: National Institutes of Health, Rockledge II, 6701 Rockledge Drive, Bethesda, MD 20892.

Meeting Format: Virtual Meeting.

Contact Person: Ann-Marie Michelle Roy, Ph.D., SSRO, Microbiology Research Review, Branch B, Program Management & Operations Branch, DEA/SRP RM 3E71, National Institutes of Health, NIAID, 5601 Fishers Lane, Rockville, MD 20852, 301-761-3100, ann-marie.brighenti@nih.gov.

Name of Committee: Center for Scientific Review Special Emphasis Panel Member Conflict: Topics in Metabolism, Endocrinology, and Reproductive Sciences.

Date: August 5-6, 2025.

Time: 10:00 a.m. to 6:00 p.m.

Agenda: To review and evaluate grant applications.

Address: National Institutes of Health, Rockledge II, 6701 Rockledge Drive, Bethesda, MD 20892.

Meeting Format: Virtual Meeting.

Contact Person: Hui Chen, MD, Scientific Review Officer, Center for Scientific Review, National Institutes of Health, 6701 Rockledge Drive, Room 6164, Bethesda, MD 20892, 301-435-1044, chenhui@csr.nih.gov.

Name of Committee: Center for Scientific Review Special Emphasis Panel Pathway to Independence.

Date: August 7-8, 2025.

Time: 11:00 a.m. to 7:00 p.m.

Agenda: To review and evaluate grant applications.

Address: National Institutes of Health, Rockledge II, 6701 Rockledge Drive, Bethesda, MD 20892.

Meeting Format: Virtual Meeting.

Contact Person: Meysam Yazdankhah, Ph.D., Scientific Review Officer, National Institutes of Health, National Institute on Drug Abuse, Scientific Review Branch, 11601 Landsdown Street, 3WF, Room Hoteling, Rockville, MD 20852, (301) 402-6965, meysam.yazdankhah@nih.gov.

Name of Committee: Center for Scientific Review Special Emphasis Panel Collaborative Applications: Impact of Sex Differences on Molecular Determinants of AD and Analytical and Clinical Biomarkers of AD and ADRD.

Date: August 8, 2025.

Time: 9:00 a.m. to 8:00 p.m.

Agenda: To review and evaluate grant applications.

Address: National Institutes of Health, Rockledge II, 6701 Rockledge Drive, Bethesda, MD 20892.

Meeting Format: Virtual Meeting.

Contact Person: Surojeet Sengupta, Ph.D., Scientific Review Officer, Scientific Review Branch, National Institute of Neurological Disorders and Stroke, 6001 Executive Boulevard, Room 5134, Bethesda, MD 20892, (301) 496-9223, surojeet.sengupta@nih.gov.

Name of Committee: Center for Scientific Review Special Emphasis Panel Program Projects: Alzheimer's Disease and Aging.

Date: August 14-15, 2025.

Time: 8:30 a.m. to 8:00 p.m.

Agenda: To review and evaluate grant applications.

Address: National Institutes of Health, Rockledge II, 6701 Rockledge Drive, Bethesda, MD 20892.

Meeting Format: Virtual Meeting.

Contact Person: Ana Olariu, Ph.D., Scientific Review Officer, Scientific Review Branch, Division of Extramural Activities, NINDS/NIH, NSC, 6001 Executive Blvd., Room 3208, MSC 9529, Bethesda, MD 20892, (301) 496-9223, Ana.Olariu@nih.gov.

Name of Committee: Center for Scientific Review Special Emphasis Panel Program Project P30: Cancer Research.

Date: August 15, 2025.

Time: 9:00 a.m. to 6:00 p.m.

Agenda: To review and evaluate grant applications.

Address: National Institutes of Health, Rockledge II, 6701 Rockledge Drive, Bethesda, MD 20892.

Meeting Format: Virtual Meeting.

Contact Person: Caterina Bianco, MD, Ph.D., Chief, Scientific Review Officer, Resources and Training Review Branch, Division of Extramural Activities, National Cancer Institute, NIH, 9609 Medical Center Drive, Room 7W110, Bethesda, MD 20892-9750, (240) 276-6459, biancoc@mail.nih.gov.

(Catalogue of Federal Domestic Assistance Program Nos. 93.306, Comparative Medicine; 93.333, Clinical Research, 93.306, 93.333, 93.337, 93.393-93.396, 93.837-93.844, 93.846-93.878, 93.892, 93.893, National Institutes of Health, HHS)

Dated: July 1, 2025.
Sterlyn H. Gibson,
Program Specialist, Office of Federal Advisory Committee Policy.

[FR Doc. 2025-12552 Filed 7-3-25; 8:45 am]

BILLING CODE 4140-01-P